DEPARTMENT OF ENERGY

Federal Energy Regulatory Commission

Combined Notice of Filings #1

Take notice that the Commission received the following electric rate filings:

Docket Numbers: ER23-1816-002.

Applicants: New York Independent System Operator, Inc., New York State Electric & Gas Corporation.

Description: Tariff Amendment: New York State Electric & Gas Corporation submits tariff filing per 35.17(b): NYSEG Second Deficiency Response re: Rate Schedule 19 Formula Rate Filing to be effective 7/3/2023.

Filed Date: 10/5/23.

Accession Number: 20231005-5061.

Comment Date: 5 p.m. ET 10/26/23.

Docket Numbers: ER23-1817-002.

Applicants: New York Independent System Operator, Inc., New York State Electric & Gas Corporation.

Description: Tariff Amendment: Rochester Gas and Electric Corporation submits tariff filing per 35.17(b): RG&E Second Deficiency Response re: Rate Schedule 19 Formula Rate Filing to be effective 7/3/2023.

Filed Date: 10/5/23.

Accession Number: 20231005-5094.

Comment Date: 5 p.m. ET 10/26/23.

Docket Numbers: ER23-2651-001.

Applicants: Midcontinent Independent System Operator, Inc., Union Electric Company.

Description: Tariff Amendment: Midcontinent Independent System Operator, Inc. submits tariff filing per 35.17(b): 2023-10-05_SA 4154 UEC-MEC-AECI Substitute Original TIA to be effective 10/18/2023.

Filed Date: 10/5/23.

Accession Number: 20231005-5118.

Comment Date: 5 p.m. ET 10/26/23.

Docket Numbers: ER24-27-000.

Applicants: Arizona Public Service Company.

Description: § 205(d) Rate Filing: Rate Schedule No. 318, Certificate of Concurrence to be effective 11/15/2023.

Filed Date: 10/4/23.

Accession Number: 20231004-5135.

Comment Date: 5 p.m. ET 10/25/23.

Docket Numbers: ER24-28-000.

Applicants: Interstate Power and Light Company.

Description: § 205(d) Rate Filing: IPL-Louise Solar LBA Agreement to be effective 12/3/2023.

Filed Date: 10/5/23.

Accession Number: 20231005-5053.

Comment Date: 5 p.m. ET 10/26/23.

Docket Numbers: ER24-29-000.

Applicants: PacifiCorp.

Description: Tariff Amendment: Termination of UAMPS Const Agmt Lehi Carter BTM Resource Modeling to be effective 12/5/2023.

Filed Date: 10/5/23.

Accession Number: 20231005-5059.

Comment Date: 5 p.m. ET 10/26/23.

Docket Numbers: ER24-30-000.

Applicants: Midcontinent Independent System Operator, Inc.

Description: § 205(d) Rate Filing: 2023-10-05_SA 3765 Termination of NIPSCO-Dunns Bridge E&P (J1333 J1334 J1335) to be effective 10/6/2023.

Filed Date: 10/5/23.

Accession Number: 20231005-5073.

Comment Date: 5 p.m. ET 10/26/23.

Docket Numbers: ER24-31-000.

Applicants: Midcontinent Independent System Operator, Inc.

Description: § 205(d) Rate Filing: 2023-10-05_SA 3324 Termination of Chandler Solar Project-ATC GIA (J849) to be effective 7/18/2022.

Filed Date: 10/5/23.

Accession Number: 20231005-5074.

Comment Date: 5 p.m. ET 10/26/23.

Docket Numbers: ER24-32-000.

Applicants: Tri-State Generation and Transmission Association, Inc.

Description: § 205(d) Rate Filing: Amendment to Rate Schedule FERC No. 2 to be effective 12/4/2023.

Filed Date: 10/5/23.

Accession Number: 20231005-5077.

Comment Date: 5 p.m. ET 10/26/23.

Docket Numbers: ER24-33-000.

Applicants: Tri-State Generation and Transmission Association, Inc.

Description: § 205(d) Rate Filing: Amendment to Rate Schedule FERC No. 67 to be effective 12/4/2023.

Filed Date: 10/5/23.

Accession Number: 20231005-5085.

Comment Date: 5 p.m. ET 10/26/23.

Docket Numbers: ER24-34-000.

Applicants: Proxima Solar, LLC.

Description: Baseline eTariff Filing: Proxima Solar, LLC Application for Market-Based Rate Authorization to be effective 12/5/2023.

Filed Date: 10/5/23.

Accession Number: 20231005-5108.

Comment Date: 5 p.m. ET 10/26/23.

Take notice that the Commission received the following electric securities filings:

Docket Numbers: ES24-4-000.

Applicants: Commonwealth Edison Company.

Description: Application Under Section 204 of The Federal Power Act for Authorization of The Issuance of Securities of Commonwealth Edison Company.

Filed Date: 10/2/23.

Accession Number: 20231002-5385.

Comment Date: 5 p.m. ET 10/23/23.

Docket Numbers: ES24-5-000.

Applicants: PECO Energy Company.

Description: Application Under Section 204 of the Federal Power Act for Authorization to Issue Securities of PECO Energy Company.

Filed Date: 10/2/23.

Accession Number: 20231002-5386.

Comment Date: 5 p.m. ET 10/23/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 5, 2023.
Debbie-Anne A. Reese,
Deputy Secretary.

[FR Doc. 2023-22555 Filed 10-12-23; 8:45 am]

BILLING CODE 6717-01-P